DEPARTMENT OF ENERGY

Western Area Power Administration

Sacramento Valley Right-of-Way Maintenance Project

AGENCY: Western Area Power Administration, DOE.

ACTION: Notice of floodplain/wetlands involvement.

SUMMARY: The Western Area Power Administration (Western), a power marketing administration of the U.S. Department of Energy (DOE), owns, operates, and maintains all or a portion of six 230-kilovolt (kV) transmission lines and one 115-kV transmission line in Placer, Sacramento, and Sutter counties, California.

Western's Sierra Nevada Customer Service Region is preparing an Environmental Assessment addressing rights-of-way (ROW) maintenance on these transmission lines and associated access roads. Western has determined that segments of the transmission line and access road maintenance on ROWs are located within floodplains and wetlands areas. Per DOE's Floodplain/Wetlands Review Requirements, Western will prepare a floodplain/wetlands assessment.

DATES: Comments on the proposed floodplain/wetlands action are due to the address below no later than April 25, 2002.

ADDRESSES: Comments should be addressed to Mr. Steve Tuggle, Environmental Specialist, Sierra Nevada Region, Western Area Power Administration, 114 Parkshore Drive, Folsom, CA 95630-4710, fax (916) 985-1936, e-mail tuggle@wapa.gov.

FOR FURTHER INFORMATION CONTACT: Mr. Steve Tuggle, Environmental Specialist, at the address noted above or telephone (916) 353-4549. For further information on DOE Floodplain/Wetlands Environmental Review Requirements, contact Ms. Carol M. Borgstrom, Director, NEPA Policy and Compliance, EH-42, U.S. Department of Energy, 1000 Independence Avenue, SW., Washington, DC 20585, telephone (202) 586-4600 or (800) 472-2756.

SUPPLEMENTARY INFORMATION: Western owns, operates, and maintains high-voltage transmission facilities in California and Nevada. As part of its mission, Western uses its transmission system to reliably deliver Federal power from points of generation to and between delivery points. Western's system in California's Sacramento Valley includes all, or a portion of, six 230-kV and one 115-kV transmission lines. These transmission lines are located in Placer, Sacramento, and Sutter counties, California. Most portions of the lines are located in rural, agriculturally dominated areas. However, major portions of the transmission lines are located in suburban/urban areas in or near the cities of Sacramento, Roseville, and Folsom.

Western needs to maintain its transmission line and access road ROWs. Vegetation growing in the ROWs could create a safety hazard to line crews and the public, as well as interfere with the reliable transmission of electricity. Western proposes to expand its vegetation maintenance methods to include expanded use of herbicides in combination with manual and mechanical methods. Western plans to adopt a more progressive management approach for vegetation and access road maintenance that would promote low-growing plant communities. The proposed action would be cost effective and ensure that system reliability and safety remain at acceptable levels, while extending the lifetime of transmission components.

Based on a review of available Federal Emergency Management Agency flood hazard maps for Placer, Sacramento, and Sutter counties, Western has determined that the proposed action would be located within several 100- and 500-year floodplains, including the American River. Also, based on a review of national and state wetland inventories and the Natural Resource Conservation Service soil maps, Western has determined that the proposed action would be located in areas with wetlands.

Per DOE's Floodplain/Wetlands Review Requirements (10 CFR 1022.12), Western will prepare a floodplain/wetlands assessment. Removal of vegetation along the ROWs within 100-or 500-year floodplains is not expected to influence flow of water during 100-or 500-year flows but will be the subject of the floodplain/wetlands assessment. Maps and further information are available from the Western contact above.

Dated: March 25, 2002.
Michael S. Hacskaylo,
Administrator.

[FR Doc. 02-8618 Filed 4-9-02; 8:45 am]

BILLING CODE 6450-01-P